SECURITIES AND EXCHANGE COMMISSION

[Release No. 34-82560; File No. SR-CboeBZX-2017-013]

Self-Regulatory Organizations; Cboe BZX Exchange, Inc.; Notice of Withdrawal of a Proposed Rule Change To List and Trade Shares of the REX Bitcoin Strategy ETF and the REX Short Bitcoin Strategy ETF, Each a Series of the Exchange Listed Funds Trust, Under Rule 14.11(i), Managed Fund Shares

January 22, 2018.

On December 15, 2017, Cboe BZX Exchange, Inc. (“Exchange”) filed with the Securities and Exchange Commission (“Commission”), pursuant to Section 19(b)(1) of the Securities Exchange Act of 1934 (“Exchange Act”) ¹ and Rule 19b-4 thereunder,² a proposed rule change to list and trade shares of the REX Bitcoin Strategy ETF and the REX Short Bitcoin Strategy ETF, each a series of the Exchange Listed Funds Trust, under Rule 14.11(i), Managed Fund Shares. The proposed rule change was published for comment in the Federal Register on January 4, 2018.³ The Commission received one comment letter on the proposed rule change.⁴

¹ 15 U.S.C. 78s(b)(1).

² 17 CFR 240.19b-4.

³ See Securities Exchange Act Release No. 82417 (Dec. 28, 2017), 83 FR 570 (Jan. 4, 2018).

⁴ See Letter from Stephen Knell (Jan. 9, 2018). The comment on the proposed rule change is available on the Commission's website at: https://www.sec.gov/comments/sr-cboebzx-2017-013/cboebzx2017013.htm.

On January 19, 2018, the Exchange withdrew the proposed rule change (SR-CboeBZX-2017-013).

For the Commission, by the Division of Trading and Markets, pursuant to delegated authority.⁵
⁵ 17 CFR 200.30-3(a)(12).
Eduardo A. Aleman,
Assistant Secretary.

[FR Doc. 2018-01415 Filed 1-25-18; 8:45 am]

BILLING CODE 8011-01-P